DEPARTMENT OF THE INTERIOR

Bureau of Land Management

[OR-130-1020-XU; GP1-0008]

Notice of Meeting; Resource Advisory Councils; Eastern Washington

AGENCY: Bureau of Land Management, Spokane District, Interior.

NOTICE: Notice of the Meeting of the Eastern Washington Advisory Council; November 2, 2000, in Spokane, Washington.

SUMMARY: A meeting of the Eastern Washington Resource Advisory Council will be held on November 2, 2000. The meeting will convene at 9 a.m., at the Spokane District Office, Bureau of Land Management, 1103 North Fancher Road, Spokane, Washington, 99212-1275. The meeting will adjourn upon conclusion of business, but no later than 4 p.m. Public comments will be heard from 10 a.m. until 10:30 a.m. If necessary, to accommodate all wishing to make public comments, a time limit may be placed upon each speaker. At an appropriate time, the meeting will adjourn for approximately one hour for lunch. Topics to be discussed include welcome of new members, FY2000 accomplishments, FY2001 work priorities, and development of the FY2001 meeting schedule.

FOR FURTHER INFORMATION CONTACT: Bureau of Land Management, Spokane District Office, 1103 N. Fancher Road, Spokane, Washington, 99212; or call 509-536-1200.

Dated: October 6, 2000.
Joseph K. Buesing,
District Manager.

[FR Doc. 00-26307 Filed 10-12-00; 8:45 am]

BILLING CODE 4310-33-P